DEPARTMENT OF HEALTH AND HUMAN SERVICES

National Institutes of Health

Submission for OMB Review; Comment Request; The Effectiveness of the NIH Curriculum Supplements Programs and Career Resources

Summary: Under the provisions of section 3507(a)(1)(D) of the Paperwork Reduction Act of 1995, the Office of the Director, Office of Science Policy, Office of Science Education, National Institutes of Health has submitted to the Office of Management and Budget (OMB) a request for review and approval of the information collection listed below. This proposed information collection was previously published in the Federal Register on September 23, 2008 (Volume 73, Number 185, page 54840) and allowed 60-days for public comment. One comment was received. The purpose of this notice is to allow 30 days for public comment. The National Institutes of Health may not conduct or sponsor, and the respondent is not required to respond to, an information collection that has been extended, revised, or implemented on or after October 1, 1995, unless it displays a currently valid OMB number.

Proposed Collection Title: The Effectiveness of the NIH Curriculum Supplements Programs and Career Resources.

Information Collection Request: Reinstatement.

Need and Use of Information Collection: The survey will attempt to assess customer demographics and their satisfaction with the NIH curriculum supplements in presenting science in a more engaging and interactive way. The supplements help K-12 educators teach science by featuring the latest NIH research and utilized research-based instructional methods. A typical supplement contains two weeks of student activities on the science behind a health topic, such as cancer, sleep or obesity. Web-based simulations, animations and experiments enhance the “pencil and paper” activities. In addition to developing and distributing the supplements, OSE conducts professional workshops to help teachers successfully implement these lessons with their students. Since January 2000, over 6,000 teachers have attended an OSE workshop. OSE also develops a series of videos, Women Are Scientists, that aim to excite middle school students on careers in the health sciences. Assessing the effectiveness of the NIH curriculum supplements, teacher workshops, and career resources is critical to determining if OSE is successfully fulfilling its mission. OSE has the database infrastructure in place to easily collect data from supplement and career video requesters and workshop attendees. At present, we do not have clearance to contact our customers to determine how NIH resources are meeting their educational needs.

Burden Table

Type of respondent: Survey title | Number of respondents | Frequency of response | Average time per response (hours) | Hour burden per year (hours)
Supplement requestor | 16,000 | 1 | 0.17 | 910
Career video requestor | 1,500 | 1 | 0.17 | 85
Workshop Teacher: initial survey | 2,000 | 1 | 0.17 | 117
Workshop Teacher: in-depth survey | 200 | 1 | 0.5 | 34
Totals | 19,700 | ᵃ | ᵃ | 1,146
ᵃ N/A.

Request for Comments: Written comments and/or suggestions from the public and affected agencies are invited on one or more of the following points: (1) Whether the proposed collection of information is necessary for the proper performance of the function of the agency, including whether the information will have practical utility; (2) ways to enhance the quality, utility, and clarity of the information to be collected; and (3) ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: Desk Officer for NIH. To request more information on the proposed project or to obtain a copy of the data collection plans and instruments, contact: Dr. David Vannier, National Institutes of Health, Office of Science Education, 6100 Executive Boulevard, Suite 3E01, Bethesda, MD 20892, or call 301-496-8741, or e-mail your request including your address to vannierd@od.nih.gov.

Comments Due Date: Comments regarding this information collection are best assured of having their full effect if received within 30 days of the date of this publication.

Dated: December 4, 2008.
David Vannier,
Office of Science Education, National Institutes of Health.

[FR Doc. E8-29815 Filed 12-16-08; 8:45 am]

BILLING CODE 4140-01-P